DEPARTMENT OF COMMERCE

Bureau of Industry and Security

15 CFR Part 744

[Docket No. 160503391-6391-01]

RIN 0694-AG96

Revisions to the Unverified List (UVL)

AGENCY: Bureau of Industry and Security, Commerce.

ACTION: Final rule.

SUMMARY: The Bureau of Industry and Security (BIS) is amending the Export Administration Regulations (EAR) by adding thirty-six (36) persons to the Unverified List (the “Unverified List” or UVL), and adding an additional address for one (1) person currently listed on the UVL. The 36 persons are being added to the UVL on the basis that BIS could not verify their bona fides because an end-use check could not be completed satisfactorily for reasons outside the U.S. Government's control. A new address is added for one current UVL person as BIS has determined that this person has changed its registered address.

DATES: Effective date: This rule is effective: June 21, 2016.

FOR FURTHER INFORMATION CONTACT: Kevin Kurland, Director, Office of Enforcement Analysis, Bureau of Industry and Security, Department of Commerce, Phone: (202) 482-4255 or by email at UVLRequest@bis.doc.gov.

SUPPLEMENTARY INFORMATION:

Background

The Unverified List, found in Supplement No. 6 to Part 744 to the EAR, contains the names and addresses of foreign persons who are or have been parties to a transaction, as that term is described in § 748.5 of the EAR, involving the export, reexport, or transfer (in-country) of items subject to the EAR, and whose bona fides BIS has been unable to verify through an end-use check. BIS may add persons to the UVL when BIS or federal officials acting on BIS's behalf have been unable to verify a foreign person's bona fides (i.e., legitimacy and reliability relating to the end use and end user of items subject to the EAR) because an end-use check, such as a pre-license check (PLC) or a post-shipment verification (PSV), cannot be completed satisfactorily for such purposes for reasons outside the U.S. Government's control.

End-use checks cannot be completed for a number of reasons, including reasons unrelated to the cooperation of the foreign party subject to the end-use check. For example, BIS sometimes initiates end-use checks and cannot find a foreign party at the address indicated on export documents, and cannot locate the party by telephone or email. Additionally, BIS sometimes is unable to conduct end-use checks when host government agencies do not respond to requests to conduct end-use checks, are prevented from scheduling such checks by a party to the transaction other than the foreign party that is the proposed subject of the end-use check or refuse to schedule them in a timely manner. Under these circumstances, although BIS has an interest in informing the public of its inability to verify the foreign party's bona fides, there may not be sufficient information to add the foreign persons at issue to the Entity List under § 744.11 of the EAR (Criteria for revising the Entity List). In such circumstances, BIS may add the foreign persons to the UVL.

Furthermore, BIS sometimes conducts end-use checks but cannot verify the bona fides of a foreign party. For example, BIS may be unable to verify bona fides if during the conduct of an end-use check a recipient of items subject to the EAR is unable to produce those items for visual inspection or provide sufficient documentation or other evidence to confirm the disposition of those items. The inability of foreign persons subject to end-use checks to demonstrate their bona fides raises concerns about the suitability of such persons as participants in future exports, reexports, or transfers (in-country) of items subject to the EAR and indicates a risk that such items may be diverted to prohibited end uses and/or end users. However, BIS may not have sufficient information to establish that such persons are involved in activities described in part 744 of the EAR, preventing the placement of the persons on the Entity List. In such circumstances, the foreign persons may be added to the Unverified List.

As provided in § 740.2(a)(17) of the EAR, the use of license exceptions for exports, reexports, and transfers (in-country) involving a party or parties to the transaction who are listed on the UVL is suspended. Additionally, under § 744.15(b) of the EAR, there is a requirement for exporters, reexporters, and transferors to obtain (and keep a record of) a UVL statement from a party or parties to the transaction who are listed on the UVL before proceeding with exports, reexports, and transfers (in-country) to such persons, when the exports, reexports and transfers (in-country) are not subject to a license requirement.

Requests for removal of a UVL entry must be made in accordance with § 744.15(d) of the EAR. Decisions regarding the removal or modification of UVL listings will be made by the Deputy Assistant Secretary for Export Enforcement, based on a demonstration by the listed person of its bona fides.

Changes to the EAR

Supplement No. 6 to Part 744 (“the Unverified List” or “UVL”)

This rule adds thirty-six (36) persons to the UVL by amending Supplement No. 6 to Part 744 of the EAR to include their names and addresses. BIS adds these persons in accordance with the criteria for revising the UVL set forth in § 744.15(c) of the EAR. The new entries consist of one person located in Finland, twenty-five persons located in Hong Kong, one person located in India, one person located in Latvia, one person located in Singapore, one person located in Switzerland, and six persons located in the United Arab Emirates. Each listing is grouped within the UVL by country with each party's name(s) listed in alphabetical order under the country; each entry includes available alias(es) and address(es), as well as the Federal Register citation and the date the person was added to the UVL. The UVL is included in the Consolidated Screening List, available at www.export.gov.

This rule also adds a new address for a current UVL person in Hong Kong: Hong Kong U.Star Electronics Technology Co., Ltd. BIS has determined that this person changed its registered address from that originally included in the UVL entry.

Savings Clause

Shipments (1) removed from license exception eligibility or that are now subject to requirements in § 744.15 of the EAR as a result of this regulatory action, (2) eligible for export, reexport, or transfer (in-country) without a license before this regulatory action, and (3) on dock for loading, on lighter, laden aboard an exporting carrier, or en route aboard a carrier to a port of export, on June 21, 2016, pursuant to actual orders, may proceed to that UVL-listed person under the previous license exception eligibility or without a license, so long as the items have been exported from the United States, reexported or transferred (in-country) before July 21, 2016. Any such items not actually exported, reexported or transferred (in-country) before midnight on July 21, 2016 are subject to the requirements in § 744.15 of the EAR in accordance with this regulation.

Export Administration Act

Since August 21, 2001, the Export Administration Act of 1979, as amended, has been in lapse. However, the President, through Executive Order 13222 of August 17, 2001, 3 CFR, 2001 Comp., p. 783 (2002), as amended by Executive Order 13637 of March 8, 2013, 78 FR 16129 (March 13, 2013), and as extended by the Notice of August 7, 2015 (80 FR 48233 (Aug. 11, 2015) has continued the EAR in effect under the International Emergency Economic Powers Act (50 U.S.C. 1701 et seq.). BIS continues to carry out the provisions of the Export Administration Act, as appropriate and to the extent permitted by law, pursuant to Executive Order 13222 as amended by Executive Order 13637.

Rulemaking Requirements

1. Executive Orders 13563 and 12866 direct agencies to assess all costs and benefits of available regulatory alternatives and, if regulation is necessary, to select regulatory approaches that maximize net benefits (including potential economic, environmental, public health and safety effects, distributive impacts, and equity). Executive Order 13563 emphasizes the importance of quantifying both costs and benefits, of reducing costs, of harmonizing rules, and of promoting flexibility. This rule has not been designated a “significant regulatory action,” under section 3(f) of Executive Order 12866.

2. The provisions of the Administrative Procedure Act (5 U.S.C. 553) requiring notice of proposed rulemaking, the opportunity for public comment and a delay in effective date are inapplicable to this rule, which is adding 36 persons and updating the address of 1 Hong Kong listed company on the UVL, because this regulation involves military or foreign affairs under 5 U.S.C. 553(a)(1). BIS implements this rule to protect U.S. national security or foreign policy interests by requiring a license or, where no license is required, a UVL statement for items being exported, reexported, or transferred (in country) involving a party or parties to the transaction who are listed on the UVL. If this rule were delayed to allow for notice and comment and a delay in effective date, the entities being added to the UVL by this action and the entity operating at previously unlisted addresses would continue to be able to receive items without additional oversight by BIS and to conduct activities contrary to the national security or foreign policy interests of the United States. In addition, publishing a proposed rule would give these parties notice of the U.S. Government's intention to place them on the UVL or amend their current entry on the UVL, and create an incentive for these persons to accelerate receiving items subject to the EAR in furtherance of activities contrary to the national security or foreign policy interests of the United States, and/or take steps to set up additional aliases, change addresses, and other measures to try to limit the impact of the listing once a final rule was published.

Further, no other law requires that a notice of proposed rulemaking and an opportunity for public comment be given for this rule. Because a notice of proposed rulemaking and an opportunity for public comment are not required to be given for this rule by 5 U.S.C. 553, or by any other law, the analytical requirements of the Regulatory Flexibility Act, 5 U.S.C. 601 et seq., are not applicable. Accordingly, no regulatory flexibility analysis is required and none has been prepared.

3. Notwithstanding any other provision of law, no person is required to respond to, nor is subject to a penalty for failure to comply with, a collection of information, subject to the requirements of the Paperwork Reduction Act of 1995 (44 U.S.C. 3501 et seq.) (PRA), unless that collection of information displays a currently valid Office of Management and Budget (OMB) Control Number. This regulation involves collections previously approved by OMB under the following control numbers: 0694-0088, 0694-0122, 0694-0134, and 0694-0137.

This rule slightly increases public burden in a collection of information approved by OMB under control number 0694-0088, which authorizes, among other things, export license applications. The removal of license exceptions for listed persons on the Unverified List will result in increased license applications being submitted to BIS by exporters. Total burden hours associated with the Paperwork Reduction Act and OMB control number 0694-0088 are expected to increase minimally, as the suspension of license exceptions will only affect transactions involving persons listed on the Unverified List and not all export transactions. Because license exceptions are restricted from use, this rule decreases public burden in a collection of information approved by OMB under control number 0694-0137 minimally, as this will only affect specific individual listed persons. The increased burden under 0694-0088 is reciprocal to the decrease of burden under 0694-0137, and results in no change of burden to the public. This rule also increases public burden in a collection of information under OMB control number 0694-0122, as a result of the exchange of UVL statements between private parties, and under OMB control number 0694-0134, as a result of appeals from persons listed on the UVL for removal of their listing. The total increase in burden hours associated with both of these collections is expected to be minimal, as they involve a limited number of persons listed on the UVL.

4. This rule does not contain policies with Federalism implications as that term is defined in Executive Order 13132.

List of Subjects in 15 CFR Part 744

Exports, Reporting and recordkeeping requirements, Terrorism.

Accordingly, part 744 of the Export Administration Regulations (15 CFR parts 730-774) is amended as follows:

Part 744—[AMENDED]

1. The authority citation for 15 CFR part 744 continues to read as follows:

Authority: 50 U.S.C. 4601 et seq.; 50 U.S.C. 1701 et seq.; 22 U.S.C. 3201 et seq.; 42 U.S.C. 2139a; 22 U.S.C. 7201 et seq.; 22 U.S.C. 7210; E.O. 12058, 43 FR 20947, 3 CFR, 1978 Comp., p. 179; E.O. 12851, 58 FR 33181, 3 CFR, 1993 Comp., p. 608; E.O. 12938, 59 FR 59099, 3 CFR, 1994 Comp., p. 950; E.O. 12947, 60 FR 5079, 3 CFR, 1995 Comp., p. 356; E.O. 13026, 61 FR 58767, 3 CFR, 1996 Comp., p. 228; E.O. 13099, 63 FR 45167, 3 CFR, 1998 Comp., p. 208; E.O. 13222, 66 FR 44025, 3 CFR, 2001 Comp., p. 783; E.O. 13224, 66 FR 49079, 3 CFR, 2001 Comp., p. 786; Notice of August 7, 2015, 80 FR 48233 (August 11, 2015); Notice of September 18, 2015, 80 FR 57281 (September 22, 2015); Notice of November 12, 2015, 80 FR 70667 (November 13, 2015); Notice of January 20, 2016, 81 FR 3937 (January 22, 2016).

2. Supplement No. 6 to Part 744 is amended by:

a. Adding one entry for “Finland”;

b. Adding 25 entries, in alphabetical order, under “Hong Kong”;

c. Revising the entry for “Hong Kong U.Star Electronics Technology Co., Ltd” under “Hong Kong”;

d. Adding one entry for “India”;

e. Adding one entry for “Latvia”;

f. Adding one entry for “Singapore”;

g. Adding one entry for “Switzerland”; and

h. Adding 6 entries, in alphabetical order, under the “United Arab Emirates”.

The additions and revisions read as follows:

SUPPLEMENT NO. 6 TO PART 744—UNVERIFIED LIST

* * * * *

Country | Listed person and address | Federal Register citation and date of publication
* * * * * * *
FINLAND | Sav-Inter OY Ltd., Nuolitie 20, Vantaa, Finland; and Manttaalitie 5, Vantaa, Finland; and Virkatie 1, Vantaa, Finland | 81 FR [INSERT Federal Register PAGE NUMBER, 6/21/16].
* * * * * * *
HONG KONG | Advent International Limited, Room 1303 Goldfield Tower, 53-59 Wuhu Street, Kung Hom, Kowloon, Hong Kong; and Flat F, 13/F, Block 1, Hong Sing Garden, Tsueng Kwan O, New Territories, Hong Kong | 81 FR [INSERT Federal Register PAGE NUMBER, 6/21/16].
* * * * * * *
| Boqur International Ltd., Room 1203, 12/F, International Trade Centre, 11-19 Sha Tsui Road, Tsuen Wan, New Territories, Hong Kong; and Room 19C, Lockhart Centre, 301-307 Lockhart Road, Wan Chai, Hong Kong | 81 FR [INSERT Federal Register PAGE NUMBER, 6/21/16].
* * * * * * *
| Carry Goldstar Ltd., 15A, 15/F, Cheuk Nang Plaza, 250 Hennessy Road, Wan Chai, Hong Kong | 81 FR [INSERT Federal Register PAGE NUMBER AND DATE OF PUBLICATION].
| Central Right Investments Ltd., Room 1019, 10/F, 1 Hung To Road, Kwun Tong, Hong Kong | 81 FR [INSERT Federal Register PAGE NUMBER, 6/21/16].
| CITI Hong Kong Ltd., Unit F, 7/F, Haribest Industry Building, 45-47 Au Pui Wan Street, Fo Tan, New Territories, Hong Kong | 81 FR [INSERT Federal Register PAGE NUMBER, 6/21/16].
| CST Source Industrial Co., Ltd., Rooms 5-15, 13/F, South Tower, World Finance Centre, Harbour City, 17 Canton Road, Tsim Sha Tsui, Kowloon, Hong Kong | 81 FR [INSERT Federal Register PAGE NUMBER, 6/21/16].
* * * * * * *
| Fuiyen Technology Ltd., 6/F, Block H, East Sun Industrial Centre, 16 Shing Yip Street, Kwun Tong, Kowloon, Hong Kong; and Room 1405, Lucky Centre, 165-171 Wan Chai Road, Wan Chai, Hong Kong | 81 FR [INSERT Federal Register PAGE NUMBER, 6/21/16].
| Fussion Electronics Co., Ltd., 11/F, International Trade Centre, 11-19 Sha Tsui Road, Tsuen Wan, New Territories, Hong Kong | 81 FR [INSERT Federal Register PAGE NUMBER, 6/21/16].
| Global Sourcing Electronics (HK) Ltd., Unit 4, 7/F, Bright Way Tower, No. 33 Mong Kok Road, Mong Kok, Kowloon, Hong Kong | 81 FR [INSERT Federal Register PAGE NUMBER, 6/21/16].
| Globe Communication (HK) Ltd., Flat 01A2, 10/F, Carnival Commercial Building, 18 Java Road, North Point, Hong Kong; and Flat C, 9/F, Winning House, 72-74 Wing Lok Street, Sheung Wan, Hong Kong | 81 FR [INSERT Federal Register PAGE NUMBER, 6/21/16].
* * * * * * *
| Haofeng Industrial Co., Ltd., Room 1101, 11/F, San Toi Building, 139 Connaught Road, Central, Hong Kong | 81 FR [INSERT Federal Register PAGE NUMBER, 6/21/16].
* * * * * * *
| Hong Kong Engy Technology Co., a.k.a. Hong Kong Energy Technology Co., a.k.a. SZ Engy Technology Co., a.k.a. SZ Energy Technology Co., Workshop 15, 2/F, Cardinal Industrial Building, 17 On Lok Mun Street, Fanling, New Territories, Hong Kong | 81 FR [INSERT Federal Register PAGE NUMBER, 6/21/16].
* * * * * * *
| Hong Kong U.Star Electronics Technology Co., Ltd., Room 28, 8/F, Shing Yip Industrial Building, 19-21 Shing Yip Street, Kwun Tong, Kowloon, Hong Kong; and Unit 5, 27/F, Richmong Commercial Building, 109 Argyle Street, Mong Kok, Kowloon, Hong Kong; and Room 704, 7/F, Bright Way Tower, 33 Mong Kok Road, Mong Kok, Kowloon, Hong Kong | 80 FR 4781, January 29, 2015; 81 FR [INSERT Federal Register PAGE NUMBER, 6/21/16].
* * * * * * *
| Jin Yan Technology & Development Co., Ltd., Workshop 11, 8/F, Block A, Delya Industrial Centre, 7 Shek Pai Tau Road, Tuen Mun, New Territories, Hong Kong; and Room 1, Fook Cheung Building, 42 Ka Shin Street, Tai Kok Tsui, Kowloon, Hong Kong | 81 FR [INSERT Federal Register PAGE NUMBER, 6/21/16].
| KingV Ltd., a.k.a. Jinnway Data Ltd., Room 31, 9/F, Shing Yip Industrial Building, 19-21 Shing Yip Street, Kwun Tong, Kowloon, Hong Kong; and 11/F, Front Block, Hang Lok Building, 130 Wing Lok Street, Sheung Wan, Hong Kong | 81 FR [INSERT Federal Register PAGE NUMBER, 6/21/16].
* * * * * * *
| Master-Uni Industry Co., Ltd., Room 602, 6/F, 168 Queens Road, Central, Hong Kong | 81 FR [INSERT Federal Register PAGE NUMBER, 6/21/16].
* * * * * * *
| Newplus Equipment Ltd., 12/F, Chinachem Johnston Plaza, 178-186 Johnston Road, Wan Chai, Hong Kong | 81 FR [INSERT Federal Register PAGE NUMBER, 6/21/16].
* * * * * * *
| Phonai Electronics Ltd., 51F, Core Building 11, New Territories, Hong Kong | 81 FR [INSERT Federal Register PAGE NUMBER, 6/21/16].
* * * * * * *
| Runtop Circuits Technology Co., Room D9, 67/F, Block 2, Camel Paint Building, 62 Hoi Yuen Road, Kwun Tong, Hong Kong; and Flat 8-11, 16/F, New Trend Centre, 704 Prince Edward Road East, San Po Kong, Kowloon, Hong Kong | 81 FR [INSERT Federal Register PAGE NUMBER, 6/21/16].
| Scitech International Express Co. Limited, Workshop 11, 8/F, Block A, Delya Industrial Centre, 7 Shek Pai Tau Road, Tuen Mun, New Territories, Hong Kong | 81 FR [INSERT Federal Register PAGE NUMBER, 6/21/16].
| Selective Components Ltd., Room 8, 10/F, International Trade Centre, 11-19 Sha Tsui Road, Tsuen Wan, New Territories, Hong Kong | 81 FR [INSERT Federal Register PAGE NUMBER, 6/21/16].
* * * * * * *
| Sun Wing Ltd., Room 31, 9/F, Shing Yip Industrial Building, 19-21 Shing Yip Street, Kwun Tong, Kowloon, Hong Kong | 81 FR [INSERT Federal Register PAGE NUMBER, 6/21/16].
| Sur-Link Technology (HK) Ltd., a.k.a. Sur-Link International (HK) Ltd., a.k.a. Surlink Group, Flat 6, 20/F, Mega Trade Centre, 1-9 Mei Wan Street, Tsuen Wan, New Territories, Hong Kong | 81 FR [INSERT Federal Register PAGE NUMBER, 6/21/16].
* * * * * * *
| Toptech Electronics Ltd., 15/F, Hong Kong and Macau Building, 156-157 Connaught Road, Central, Hong Kong | 81 FR [INSERT Federal Register PAGE NUMBER, 6/21/16].
* * * * * * *
| Winthought Company Ltd., Unit E1, 3/F, Wing Tat Commercial Building, 121-125 Wing Lok Street, Sheung Wan, Hong Kong | 81 FR [INSERT Federal Register PAGE NUMBER, 6/21/16].
* * * * * * *
| Yield Best International, 6/F, Block H, East Sun Industrial Centre, 16 Shing Yip Street, Kwun Tong, Kowloon, Hong Kong; and Unit J, 9/F, King Win Factory Building, 65-67 King Yip Street, Kwun Tong, Hong Kong | 81 FR [INSERT Federal Register PAGE NUMBER, 6/21/16].
* * * * * * *
INDIA | Conduit Technologies Pvt., Ltd., Office 201, 2/F, Lunkad Sky Station, Konark Naga, Mhada Colony, Viman Nagar, Pune, India; and Office UG21, East Court, Phoenix Market City, Viman Nagar, Pune, India | 81 FR [INSERT Federal Register PAGE NUMBER, 6/21/16].
LATVIA | Alfa Photonics, 21 Krisjana Valdemara Iela, Riga, Latvia; and 151-11 Krisjana Valdemara Iela, Riga, Latvia; and 52-66 Darza Iela, Riga, Latvia; and Nordic Technology Park, 15/25 Jurkalnes Iela, Riga, Latvia | 81 FR [INSERT Federal Register PAGE NUMBER, 6/21/16].
* * * * * * *
SINGAPORE | Dorado Network Pte., Ltd., 128 Joo Seng Road, DP Computers Building 04-04, Singapore; and 629 Aljunied Road, Cititech Industrial Building, Singapore; and 512 Woodlands Drive 14, Singapore | 81 FR [INSERT Federal Register PAGE NUMBER, 6/21/16].
SWITZERLAND | Light Range AG, Stutzstrasse 13C, Schindellegi, Switzerland; and Lowenstrasse 20, Zurich, Switzerland; and Via Delle Scuole 34E, Figino, Switzerland | 81 FR [INSERT Federal Register PAGE NUMBER, 6/21/16].
UNITED ARAB EMIRATES | Abu Trade LLC, Lot Number 155, Al Zaroni Yard, Al Wasl Road, Dubai, UAE | 81 FR [INSERT Federal Register PAGE NUMBER, 6/21/16].
| Alsima Middle East General Trading, 802 Whiteswan Building, near Fairmont Hotel, Sheikh Zayed Road, Dubai, UAE | 81 FR [INSERT Federal Register PAGE NUMBER, 6/21/16].
* * * * * * *
| Establishment Standard Lab FZE, a.k.a. Standard Lab FZE, Ras Al Khaimah Free Trade Zone Business Park, Ras Al Khaimah, UAE; and P.O. Box 17049, Ras Al Khaimah, UAE | 81 FR [INSERT Federal Register PAGE NUMBER, 6/21/16].
* * * * * * *
| Marinatec, Office 2008, Grosvenor Commercial Tower, Sheikh Zayed Road, Dubai, UAE; and P.O. Box 42236, 17A Radisson Plaza, Deira, Dubai, UAE | 81 FR [INSERT Federal Register PAGE NUMBER, 6/21/16].
| Middle East Oilfield Equipment, 723 Sama Tower, 6/F, near Fairmont Hotel, Sheikh Zayed Road, P.O. Box 4404, Dubai, UAE; and 217 Twin Towers, Baniyas Road, P.O. Box 4404, Deira, Dubai, UAE; and Flat 102, Mohammed Zainal Faraidooni Building, Salahuddin Road, Dubai, UAE | 81 FR [INSERT Federal Register PAGE NUMBER, 6/21/16].
* * * * * * *
| Tek Work General Trading, 1902 Metropolis Business Tower, P.O. Box 12865, Business Bay, Dubai, UAE | 81 FR [INSERT Federal Register PAGE NUMBER, 6/21/16].
* * * * * * *

Dated: June 15, 2016.
Matthew S. Borman,
Deputy Assistant Secretary for Export Administration.

[FR Doc. 2016-14514 Filed 6-20-16; 8:45 am]

BILLING CODE 3510-33-P